FEDERAL COMMUNICATIONS COMMISSION

47 CFR Part 73

[DA 03-3040; MB Docket No.03-160; RM-10706]

Radio Broadcasting Services; Camp Verde and Payson, AZ

AGENCY: Federal Communications Commission.

ACTION: Final rule.

SUMMARY: This document reallots Channel 282C from Payson, Arizona, to Camp Verde, Arizona, and modifies the license for Station KAJM accordingly in response to a petition filed by Sierra H Broadcasting, Inc. See 68 FR 43704, July 24, 2003. The coordinates for Channel 282C at Camp Verde, Arizona, are 34-25-48 and 111-30-16. With this action, this proceeding is terminated.

DATES: Effective November 24, 2003.

FOR FURTHER INFORMATION CONTACT: Kathleen Scheuerle, Media Bureau, (202) 418-2180.

SUPPLEMENTARY INFORMATION: This is a summary of the Commission's Report and Order, MB Docket No. 03-160, adopted October 8, 2003, and released October 10, 2003. The full text of this Commission decision is available for inspection and copying during regular business hours in the FCC's Reference Information Center, Portals II, 445 12th Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Arizona, is amended by adding Camp Verde, Channel 282C and by removing Channel 282C at Payson.

Federal Communications Commission.
John A. Karousos,
Assistant Chief, Audio Division, Media Bureau.

[FR Doc. 03-27370 Filed 10-29-03; 8:45 am]

BILLING CODE 6712-01-P